DEPARTMENT OF THE TREASURY

Agency Information Collection Activities; Proposed Collection; Comment Request; Prohibition on Funding of Unlawful Internet Gambling

AGENCY: Departmental Offices, U.S. Department of the Treasury.

ACTION: Notice of information collection; request for comment.

SUMMARY: The Department of the Treasury, as part of its continuing effort to reduce paperwork and respondent burden, invites the general public and other federal agencies to comment on the proposed information collection listed below, in accordance with the Paperwork Reduction Act of 1995.

DATES: Written comments must be received on or before June 30, 2025.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Title: Prohibition on Funding of Unlawful Internet Gambling.

OMB Control Number: 1505-0204.

Type of Review: Extension without change of a currently approved collection.

Description: The Unlawful Internet Gambling Enforcement Act of 2006 (Act) (enacted as Title VIII of the Security and Accountability For Every Port Act of 2006, Pub. L. 109-347, 120 Stat. 1884, and codified at 31 U.S.C. 5361-5367) required the Secretary of the Treasury (Treasury) and the Board of Governors of the Federal Reserve System (Board), in consultation with the Attorney General, to prescribe regulations requiring designated payment systems and all participants therein to prevent or prohibit unlawful internet gambling transactions (referred to in the Act as “restricted transactions”) through the establishment of reasonably designed policies and procedures. 31 U.S.C. 5364(a).

To carry out the Act, the Treasury's Departmental Offices and the Board, after consulting with the Justice Department, published a final rule on November 18, 2008 in the Federal Register (73 FR 69382) requiring designated payment systems and all participants therein (referred to collectively in the final rule as “participants in designated payment systems”) to establish and implement written policies and procedures reasonably designed to prevent or prohibit restricted transactions.

Form: None.

Affected Public: Businesses or other for-profits.

Estimated Number of Respondents: 6,038.

Frequency of Response: On Occasion.

Estimated Total Number of Annual Responses: 6,038.

Estimated Time per Response: 100 hours to establish new written policies and procedures. 8 hours to maintain them once established.

Estimated Total Annual Burden Hours: 48,604.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Spencer W. Clark,
Treasury PRA Clearance Officer.

[FR Doc. 2025-07319 Filed 4-28-25; 8:45 am]

BILLING CODE 4810-AK-P